DEPARTMENT OF AGRICULTURE

Agricultural Marketing Service

[TM-00-201]

Notice of Program Continuation

AGENCY: Agricultural Marketing Service, USDA.

ACTION: Notice inviting applications for fiscal year (FY) 2001 grant funds under the federal-state marketing improvement program.

SUMMARY: Notice is hereby given that the Federal-State Marketing Improvement Program (FSMIP) was allocated $1,350,000 in the Federal budget for FY 2001. Funds remain available for this program. States interested in obtaining funds under the program are invited to submit Proposals. While only State Departments of Agriculture or other appropriate State Agencies are eligible to apply for funds, State Agencies are encouraged to involve industry groups and community-based organizations in the development of proposals and the conduct of projects.

DATES: Funds will be allocated on the basis of two rounds of consideration. Proposals received by February 9, 2001 will be considered during the first round. Proposals which are not selected for funding during the first round and other proposals received by May 11, 2001 will be considered during the second round.

ADDRESSES: Proposals may be sent to: FSMIP Staff, Transportation and Marketing Programs, Agricultural Marketing Service (AMS), U.S. Department of Agriculture, Room 4006 South Building, P.O. Box 96456, Washington, DC 20090-6456.

FOR FURTHER INFORMATION CONTACT: Debra Tropp, (202) 720-2704.

SUPPLEMENTARY INFORMATION: FSMIP is authorized under Section 204(b) of the Agricultural Marketing Act of 1946 (7 U.S.C. 1621 et seq.). The program is a matching fund program designed to assist State Departments of Agriculture or other appropriate State agencies in conducting studies or developing innovative approaches related to the marketing of agricultural products. Other organizations interested in participating in this program should contact their State Department of Agriculture's Marketing Division to discuss their proposal.

Mutually acceptable proposals are submitted by the State Agency and must be accompanied by a completed Standard Form (SF)-424 with SF-424A and SF-424B attached. FSMIP funds may not be sued for advertising or, with limited exceptions, for the purchase of equipment or facilities. Guidelines may be obtained from your State Department of Agriculture or the above AMS contact.

Funds can be requested for a wide range of marketing research and marketing service activities, including projects aimed at:

(1) Developing and testing new or more efficient methods of processing, packaging, handling, storing, transporting, and distributing food and other agricultural products;

(2) Assessing customer response to new or alternative agricultural products or marketing services and evaluating potential opportunities for U.S. producers, processors and other agribusinesses, in both domestic and international markets; and

(3) Identifying problems and impediments in existing channels of trade between producers and consumers of agricultural products and devising improved marketing practices, facilities, or systems to address such problems.

While all proposals which fall within the FSMIP guidelines will be considered, States are encouraged to submit proposals in the following areas, which correspond with ongoing national initiatives in support of:

(1) Small farms—to increase the base of marketing research and marketing services of particular importance to small-scale, limited-resource farmers and rural agribusinesses, with emphasis on projects aimed at identifying and improving producers' abilities to participate in alternative domestic and export markets;

(2) Direct marketing—to identify and evaluate opportunities for producers to respond directly to new or expanding consumer demands for products and value-adding services, with emphasis on projects which concurrently address the needs of presently under served consumers; and

(3) Sustainable agriculture—to encourage the development of marketing channels and methods consistent with maintaining or improving the environment, with emphasis on projects aimed at expanding consumers' choices with regard to the environmental impact of alternative production and marketing technologies.

Copies of the FSMIP guidelines may be obtained by contacting the person listed as the contact for further information. FSMIP is listed in the “Catalog of Federal Domestic Assistance” under number 10.156 and subject agencies must adhere to Title VI of the Civil Rights Act of 1964, which bars discrimination in all Federally assisted programs.

Authority: 7. U.S.C. 1621-1627.

Dated: December 12, 2000.
Aggie Thompson,
Acting Deputy Administrator, Transportation and Marketing Programs.

[FR Doc. 00-32295 Filed 12-18-00; 8:45 am]

BILLING CODE 3410-02-M